ENVIRONMENTAL PROTECTION AGENCY

[EPA-HQ-OPP-2006-0936; FRL-8147-1]

Notice of Filing of Pesticide Petitions for Residues of Pesticide Chemicals in or on Various Commodities

AGENCY: Environmental Protection Agency (EPA).

ACTION: Notice.

SUMMARY: This notice announces the initial filing of pesticide petitions proposing the establishment or modification of regulations for residues of pesticide chemicals in or on various commodities.

DATES: Comments must be received on or before October 29, 2007.

ADDRESSES: Submit your comments, identified by docket identification (ID) number and the pesticide petition number (PP) of interest, by one of the following methods:

•Federal eRulemaking Portal: http://www.regulations.gov. Follow the on-line instructions for submitting comments.

•Mail: Office of Pesticide Programs (OPP) Regulatory Public Docket (7502P), Environmental Protection Agency, 1200 Pennsylvania Ave., NW., Washington, DC 20460-0001.

•Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to the assigned docket ID number and the pesticide petition number of interest. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail.The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy. Publicly available docket materials are available electronically at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The person listed at the end of the pesticide petition summary of interest.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Docket ID Numbers

When submitting comments, please use the docket ID number and the pesticide petition number of interest, as shown in the table.

PP Number | Docket ID Number
PP 5E4491 | EPA-HQ-OPP-2007-0894
PP 7E7247 | EPA-HQ-OPP-2007-0894
PP 7E7232 | EPA-HQ-OPP-2007-0893
PP 7E7244 | EPA-HQ-OPP-2007-0872
PP 6F7092 | EPA-HQ-OPP-2006-0781
PP 6F7106 | EPA-HQ-OPP-2007-0416
PP 7F7242 | EPA-HQ-OPP-2007-0219
PP 7F7243 | EPA-HQ-OPP-2007-0871
PP 7F7251 | EPA-HQ-OPP-2007-0880
PP 8E5012 | EPA-HQ-OPP-2005-0119
PP 7F7198 | EPA-HQ-OPP-2007-0416
PP 7F7225 | EPA-HQ-OPP-2007-0810

III. What Action is the Agency Taking?

EPA is printing notice of the filing of pesticide petitions received under section 408 of the Federal Food, Drug, and Cosmetic Act (FFDCA), 21 U.S.C. 346a, proposing the establishment or modification of regulations in 40 CFR part 180 for residues of pesticide chemicals in or on various food commodities. EPA has determined that the pesticide petitions described in this notice contain data or information regarding the elements set forth in FFDCA section 408(d)(2); however, EPA has not fully evaluated the sufficiency of the submitted data at this time or whether the data support granting of the pesticide petitions. Additional data may be needed before EPA rules on these pesticide petitions.

Pursuant to 40 CFR 180.7(f), a summary of each of the petitions included in this notice, prepared by the petitioner, is included in a docket EPA has created for each rulemaking. The docket for each of the petitions is available on-line at http://www.regulations.gov.

New Tolerances

1. PP 5E4491 and PP 7E7247. (EPA-HQ-OPP-2007-0894). Interregional Research Project Number 4 (IR-4), 500 College Road East, Suite 201W., Princeton, NJ 08540, proposes to establish a tolerance for residues of the insecticide and nematicide ethoprop in or on food commodities PP 5E4491: Mint, hay and PP 7E7247: Hop, dried cone at 0.02 parts per million (ppm). Adequate methods for purposes of enforcement of ethoprop tolerances in plant commodities, ruminant tissues and milk are available. Contact: Susan Stanton, telephone number: (703) 305-5218; e-mail address: stanton.susan@epa.gov.

2. PP 7E7232. (EPA-HQ-OPP-2007-0893). Interregional Research Project Number 4 (IR-4), 500 College Road East, Suite 201W., Princeton, NJ 08540, proposes to establish a tolerance for residues of the herbicide sethoxydim (2-[1-(ethoxyimino)butyl]-5-[2-(ethylthio) propyl]-3-hydroxy-2-cyclohexen-1-one) and its metabolites containing the 2-cyclohexen-1-one moiety (calculated as the herbicide) in or on food commodities cuphea, seed at 35.0 ppm; echium, seed at 35.0 ppm; gold of pleasure, seed at 35.0 ppm; gold of pleasure, meal at 40.0 ppm; hare's ear mustard, seed at 35.0 ppm; lesquerella, seed at 35.0 ppm; lunaria, seed at 35.0 ppm; meadowfoam, seed at 35.0 ppm; milkweed, seed at 35.0 ppm; mustard, seed at 35.0 ppm; oil radish, seed at 35.0 ppm; poppy, seed at 35.0 ppm; sesame, seed at 35.0 ppm; sweet rocket, seed at 35.0 ppm; crambe, seed at 35.0 ppm; crambe, meal at 40.0 ppm. Analytical methods for detecting levels of sethoxydim and its metabolites in or on food with a limit of detection that allows monitoring of food with residues at or above the level in these tolerances were submitted to EPA. The proposed analytical method involves extraction, partition, and cleanup. Samples are then analyzed by gas chromatography with sulfur-specific flame photometric detection. The limit of quantitation (LOQ) is 0.05 ppm. Contact: Barbara Madden, telephone number: (703) 305-6463; e-mail address: madden.barbara@epa.gov.

3. PP 7E7244. (EPA-HQ-OPP-2007-0872). Interregional Research Project Number 4 (IR-4), 500 College Road East, Suite 201W., Princeton, NJ, 08540, proposes to establish a tolerance for residues of the fungicide cyazofamid, 4-chloro-2-cyano-N,N-dimethyl-5-(4-methylphenyl)-1H-imidazole-1-sulfonamide and its metabolite CCIM (4-chloro-5-(4-methylphenyl)-1H-imidazole-2-carbonitrile) in or on food commodity carrot, roots at 0.06 ppm. Residues of cyazofamid and CCIM were extracted from 20 grams of carrot with acetonitrile. After filtration, the extract was transferred to a separatory funnel, washed with hexane, cleaned up on a Nexus SPE column, and the eluate was concentrated by using a TurboVap LV workstation. After reconstitution in 50:50 acetonitrile: water, quantitation was achieved by liquid chromatography/mass spectrometry/mass spectrometry (LC/MS/MS). Contact: Susan Stanton, telephone number: (703) 305-5218; e-mail address: stanton.susan@epa.gov.

4. PP 6F7092. (EPA-HQ-OPP-2006-0781). Valent U.S.A. Corporation, 1600 Riviera Avenue, Suite 200, Walnut Creek, CA 94596, proposes to establish a tolerance for residues of the herbicide flumioxazin, 2-[7-fluoro-3,4-dihydro-3-oxo-4-(2-propynyl)-2H-1,4-benzoxazin-6-yl]-4,5,6,7-tetrahydro-1H-isoindole-1,3(2H)-dione in or on food commodities alfalfa, forage at 1.0 ppm and alfalfa, hay at 2.0 ppm. Practical analytical methods for detecting and measuring levels of flumioxazin have been developed and validated in or on all appropriate agricultural commodities and respective processing fractions. The level of quantitation (LOQ) of flumioxazin in the methods is 0.02 ppm which will allow monitoring of food with residues at the levels proposed for the tolerances. Contact: James M. Stone, telephone number: (703) 305-7391; e-mail address: stone.james@epa.gov.

5. PP 6F7106. (EPA-HQ-OPP-2007-0416). Syngenta Crop Protection, P.O. Box 18300, Greensboro, NC 27409, proposes to establish a tolerance for residues of the fungicide azoxystrobin, [methyl (E)-2-(2-(6-(2-cyanophenoxy)pyrimidin-4-yloxy)phenyl)-3-methoxyacrylate] and the Z isomer of azoxystrobin, [methyl (Z)-2-(2-(6-(2-cyanophenoxy)pyrimidin-4-yloxy)phenyl)-3-methoxyacrylate] in or on food commodities PP 6F7106: Barley, forage at 30 ppm; non-grass animal feeds, forage at 35 ppm; non-grass animal feeds, hay at 100 ppm; sorghum, forage at 25 ppm; sorghum, grain at 9 ppm; sorghum, stover at 40 ppm; wheat, forage at 30 ppm. Syngenta Crop Protection also proposes to establish a tolerance for residues of the fungicide azoxystrobin, [methyl (E)-2-(2-(6-(2-cyanophenoxy)pyrimidin-4-yloxy)phenyl)-3-methoxyacrylate] in or on food commodities PP 6F7106: Cattle, fat at 0.13 ppm; cattle, kidney at 1.00 ppm; cattle, liver at 5.10 ppm; cattle, meat at 0.07 ppm; cattle, meat byproducts (except liver and kidney) at 0.07 ppm; goat, fat at 0.13 ppm; goat, kidney at 1.00 ppm; goat, liver at 5.10 ppm; goat, meat at 0.07 ppm; goat, meat byproducts (except liver and kidney) at 0.07 ppm; egg white at 0.01 ppm; egg, yolk at 0.15 ppm; hog, fat at 1.10 ppm; hog, kidney at 0.03 ppm; hog, liver at 0.23 ppm; hog, meat byproducts (except liver and kidney) at 0.01 ppm; horse, kidney at 1.00 ppm; horse, liver at 5.10 ppm; horse, meat at 0.07 ppm; milk at 0.05 ppm; poultry, fat at 0.01 ppm; poultry, liver at 0.12 ppm; poultry, meat at 0.02 ppm; sheep, fat at 0.13 ppm; sheep, kidney at 1.00 ppm; sheep, liver at 5.10 ppm; sheep, meat at 0.07 ppm; sheep, meat byproducts (except liver and kidney) at 0.07 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. The Analytical Chemistry section of the EPA concluded that the method(s) are adequate for enforcement. Analytical methods are also available for analyzing meat, milk, poultry and eggs which also underwent successful independent laboratory validations. Contact: John Bazuin, telephone number: (703) 305-7381; e-mail address: bazuin.john@epa.gov.

6. PP 7F7242. (EPA-HQ-OPP-2007-0219). E. I. DuPont de Nemours and Company, DuPont Crop Protection, P.O. Box 30, Newark, DE 19714-0030, proposes to establish a tolerance for the sum of the residues of the insecticide oxamyl (methyl N-N-dimethyl-N-[(methylcarbamyl)-oxy]-1-thiooxamimidate) and its oxime metabolite methyl N,N-dimethyl-N-hydroxy-1-thiooxaminimidate in or on food commodities wheat forage, wheat hay, and wheat straw at 0.20 ppm. Adequate methods are available for data collection and tolerance enforcement for plant and animal commodities. The limit of quantitation is approximately 0.02 ppm. The Pesticide Analytical Manual (PAM) Vol. II, lists a gas liquid chromatography (GLC) method with flame photometric detection (sulfur mode), Method I, for the enforcement of tolerances for plant and animal commodities. This method involves alkaline hydrolysis to convert oxamyl to the oxime metabolite; therefore, the method determines combined residues of oxamyl and its oxime metabolite. Methods used for data collection are essentially the same as the PAM Vol. II method. The FDA PESTDATA database dated 1/94 (PAM Volume I, Appendix I) indicates that oxamyl is completely recovered (>80%) by multi-residue methods section 302 (Luke Method; Protocol D) and section 401. Contact: Thomas C. Harris, telephone number: (703) 308-9423; e-mail address: harris.thomas@epa.gov.

7. PP 7F7243. (EPA-HQ-OPP-2007-0871). Valent U.S.A. Corporation, 1600 Riviera Avenue, Suite 200, Walnut Creek, CA 94596, proposes to establish a tolerance for residues of the herbicide flumioxazin, 2-[7-fluoro-3,4-dihydro-3-oxo-4-(2-propynyl)-2H-1,4-benzoxazin-6-yl]-4,5,6,7-tetrahydro-1H-isoindole-1,3(2H)-dione in or on food commodities corn, field grain at 0.02 ppm; corn, field forage at 0.02 ppm; and corn, field stover at 0.02 ppm. Practical analytical methods for detecting and measuring levels of flumioxazin have been developed and validated in or on all appropriate agricultural commodities and respective processing fractions. The level of quantitation (LOQ) of flumioxazin in the methods is 0.02 ppm which will allow monitoring of food with residues at the levels proposed for the tolerances. Contact: James M. Stone, telephone number: (703) 305-7391; e-mail address: stone.james@epa.gov.

8. PP 7F7251. (EPA-HQ-OPP-2007-0880). McLaughlin Gormley King Company (MGK), 8810 Tenth Avenue North, Minneapolis, MN 55427, proposes to establish a tolerance for residues of the insecticide D-phenothrin in or on all food commodities at 0.01 ppm after wide-area mosquito adulticide treatments. Golden Pacific Laboratories developed and validated a liquid chromatography/mass spectrometry/mass spectrometry (LC/MS/MS) analytical method with a limit of quantitation (LOQ) of 10 ppb of Sumithrin and a limit of detection (LOD) of 2 ppb as requested by EPA (see MRID # 46770001, “Magnitude of the Residue of Multicide Mosquito Adulticiding Concentrate 2705 in Grass, Alfalfa, and Leaf Lettuce, Raw Agricultural Commodities Following Mosquito Control Overhead Treatment”). This method was used to analyze a total of 332 field samples, 24 control samples, and 48 lab-fortified samples for Sumithrin after aerial application of an end use concentrate containing 10% Sumithrin (D-phenothrin) and 10% of the synergist piperonyl butoxide. Contact: Ann Sibold, telephone number: (703) 305-6502; e-mail address: sibold.ann@epa.gov.

Amendment to Existing Tolerances

1. PP 8E5012. (EPA-HQ-OPP-2005-0119). Interregional Research Project Number 4 (IR-4), 500 College Road East, Suite 201W, Princeton, NJ 08540, proposes to amend the tolerances in 40 CFR 180.532 by extending the expiration date for the existing time-limited tolerances established under the pesticide petition PP 8E5012, for an additional 2-year period from December 31, 2007 to December 31, 2009 for residues of the fungicide cyprodinil: 4-cyclopropyl-6-methyl-N-phenyl-2-pyrimidinamine in or on the food commodities onion, dry bulb at 0.60 ppm; onion, green at 4.0 ppm; and strawberry at 5.0 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Barbara Madden, telephone number: (703) 305-6463; e-mail address: madden.barbara@epa.gov.

2. PP 6F7106 and PP 7F7198. (EPA-HQ-OPP-2007-0416). Syngenta Crop Protection, P.O. Box 18300, Greensboro, NC 27409, proposes to amend the tolerances in 40 CFR 180.507 for residues of the fungicide azoxystrobin, (methyl (E)-2-(2-[6-(2-cyanophenoxy)pyrimidin-4-yloxy]phenyl)-3-methoxyacrylate) and the Z isomer of azoxystrobin, (methyl (Z)-2-{2-[6-(2-cyanophenoxy)pyrimidin-4-yloxy]phenyl)-3-methoxyacrylate) in or on the food commodities PP 6F7106: Aspirated grain fractions at 112 ppm; and PP 7F7198: Cotton, gin byproducts at 35 ppm; cotton, undelinted seed at 0.7 ppm; and rice, wild at 5.0 ppm. An adequate analytical method, gas chromatography with nitrogen-phosphorus detection (GC-NPD) or in mobile phase by high performance liquid chromatography with ultra-violet detection (HPLC-UV), is available for enforcement purposes with a limit of detection that allows monitoring of food with residues at or above the levels set in these tolerances. The Analytical Chemistry section of the EPA concluded that the method(s) are adequate for enforcement. Analytical methods are also available for analyzing meat, milk, poultry and eggs which also underwent successful independent laboratory validations. Contact: John Bazuin, telephone number: (703) 305-7381; e-mail address: bazuin.john@epa.gov.

New Exemption from Tolerance

PP 7F7225. (EPA-HQ-OPP-2007-0810). Cutting Edge Formulations, Inc., 5106 Bristol Industrial Way, Suite 400, Buford, GA 30518, proposes to establish an exemption from the requirement of a tolerance for residues of d-Limonene in or on food commodities tree, vine and berry crops, vegetable crops, alfalfa, rice, cotton, herbs and spices. Because this petition is a request for an exemption from the requirement of a tolerance without numerical limitations, no analytical method is required. Contact: Erik Kraft, telephone number: (703) 308-9358; e-mail address: kraft.erik@epa.gov.

List of Subjects

Environmental protection, Agricultural commodities, Feed additives, Food additives, Pesticides and pests, Reporting and recordkeeping requirements.

Dated: September 19, 2007.
Lois Rossi,
Director, Registration Division, Office of Pesticide Programs.

[FR Doc. E7-19235 Filed 9-27-07; 8:45 am]

BILLING CODE 6560-50-S